DEPARTMENT OF COMMERCE

Bureau of Industry and Security

[Docket No. 211123-0244]

XRIN 0694-XC088

Request for Public Comments Regarding Areas and Priorities for U.S. and EU Export Control Cooperation Under the Trade and Technology Council

AGENCY: Bureau of Industry and Security, Commerce.

ACTION: Notice of inquiry, request for comments.

SUMMARY: The Bureau of Industry and Security (BIS) requests public comments regarding areas and priorities for U.S. and EU export control cooperation to help inform the work of the U.S-EU Trade and Technology Council (TTC) Export Control Working Group. Comments should address ways in which existing U.S. and/or European Union dual-use export control policies and practices may be more transparent, more efficient and effective, more convergent, and fit for today's challenges, in particular with regards to the control of emerging technologies.

DATES: Comments must be received by BIS no later than January 14, 2022.

ADDRESSES: Comments may be submitted to the Federal rulemaking portal (www.regulations.gov). The regulations.gov ID for this rule is BIS-2021-0044. All relevant comments (including any personally identifying information) will be made available for public inspection and copying. All filers using the portal should use the name of the person or entity submitting the comments as the name of their files.

FOR FURTHER INFORMATION CONTACT: Eileen Albanese, Director, Office of National Security and Technology Transfer Controls, Bureau of Industry and Security, Department of Commerce, by phone at (202) 482-0092, or by email at eileen.albanese@bis.doc.gov.

SUPPLEMENTARY INFORMATION:

Background

On June 15, 2021, President Biden and European Commission President Ursula von der Leyen launched the U.S.-EU Trade and Technology Council at the U.S.-EU Summit in Brussels.

Together, the United States and the European Union account for a quarter of global trade and almost half of global GDP, with U.S.-EU two-way trade in goods and services amounting to $1.1 trillion in 2019. In view of this, the Trade and Technology Council (TTC) serves as a forum for the United States and the European Union to coordinate approaches to key global trade, economic, and technology issues, and to deepen transatlantic trade and economic relations based on shared democratic values.

The main goals of the TTC are to expand and deepen bilateral trade and investment; avoid new technical barriers to trade; cooperate on key policies on technology, digital issues and supply chains; support collaborative research; cooperate on the development of compatible and international standards; cooperate on regulatory policy and enforcement; and promote innovation and leadership by U.S. and EU firms.

The TTC's ten working groups provide a framework for tackling challenges and advancing work aligned with some of our shared trade and technology priorities, such as cooperation on technology standards, global trade challenges and supply chain security, climate and clean technology, Information and Communications Technology (ICT) security and competitiveness, data governance and technology platforms, the misuse of technology threatening security and human rights, export controls, investment screening, and access to, and use of, digital technologies by small and medium enterprises.

On September 29, 2021, the U.S.-EU TTC met for the first time. The United States and the European Union reaffirmed the TTC's objectives to: Coordinate approaches to key global technology, economic, and trade issues; and deepen transatlantic trade and economic relations, basing policies on shared democratic values.

Under the TTC's Export Control Working Group, the United States and the European Union are seeking to enhance their cooperation in the following areas:

Technical consultations on current and upcoming legislative and regulatory developments to promote the global convergence of controls and ensure legal security for U.S. and EU companies, including regular adjustments to control lists and specific license exceptions/General Export Authorizations, development of guidelines, as well as review of relevant regulatory developments in third countries (i.e., not the United States or a member state of the European Union);

Technical consultations and development of convergent control approaches on sensitive dual-use technologies, as appropriate;

Information exchange on risks associated with: (1) The export of sensitive technologies to destinations and entities of concern, exchange of best practices on the implementation and licensing for listed or non-listed sensitive items; and (2) technology transfers and dual-use research of concern and exchange of best practices to support the effective application of controls while facilitating research collaboration between U.S. and EU research organizations;

Technical consultations on compliance and enforcement approaches (i.e., legal and regulatory basis, institutional and administrative arrangements) and actions;

Capacity building assistance to third countries to develop appropriate capabilities to implement guidelines and lists of multilateral export control regimes, appropriate export control policies and practices, as well as relevant enforcement measures; and

Technical consultations regarding multilateral and international cooperation, including prior to the introduction of controls outside the multilateral regimes, as appropriate.

Comments on ways in which existing U.S. and/or European Union dual-use export control policies and practices may be more transparent, more efficient and effective, more convergent, and fit for today's challenges, in particular with regards to the control of emerging technologies from all interested persons are welcome and will assist BIS in developing ideas and proposals, as well as facilitate a productive dialogue with the European Union. Comments providing specific and concrete examples where further convergence in U.S. and EU export control practices and policies could enhance international security and the protection of human rights, and support a global level-playing field and joint technology development and innovation, would be particularly helpful.

Additionally, the U.S. and European Union held a joint virtual outreach for stakeholders on October 27, 2021 and received an initial round of comments from participants representing the U.S. and EU private and nongovernment sectors. In summary, speakers at the virtual outreach event provided input including, but not limited to, the view that export controls should be implemented on a multilateral basis; that extraterritorial application of U.S. export controls creates regulatory burdens on European stakeholders and discourages European entities from collaborating with U.S. counterparts, creating incentives to avoid U.S. technology or, in some cases, hire U.S. persons; and that there is a need to address the challenges associated with the fast pace of innovation and quickly evolving emerging technologies by developing a holistic approach that will protect and promote these technologies. A further description of the topics covered in the stakeholder event will be posted on BIS's website.

Matthew S. Borman,
Deputy Assistant Secretary for Export Administration.

[FR Doc. 2021-26106 Filed 11-29-21; 8:45 am]

BILLING CODE 3510-33-P